DEPARTMENT OF COMMERCE

National Oceanic and Atmospheric Administration

[RTID 0648-XB298]

Marine Mammals; File No. 25770

AGENCY: National Marine Fisheries Service (NMFS), National Oceanic and Atmospheric Administration (NOAA), Commerce.

ACTION: Notice; receipt of application.

SUMMARY: Notice is hereby given that the Institute of Marine Sciences, University of California at Santa Cruz, Santa Cruz, CA 95064 (Responsible Party: Daniel Costa, Ph.D.), has applied in due form for a permit to conduct research on Antarctic pinniped species.

DATES: Written, telefaxed, or email comments must be received on or before September 7, 2021.

ADDRESSES: The application and related documents are available for review by selecting “Records Open for Public Comment” from the “Features” box on the Applications and Permits for Protected Species (APPS) home page, https://apps.nmfs.noaa.gov, and then selecting File No. 25770 from the list of available applications. These documents are also available upon written request via email to NMFS.Pr1Comments@noaa.gov.

Written comments on this application should be submitted via email to NMFS.Pr1Comments@noaa.gov. Please include File No. 25770 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The purpose of this research is to understand the foraging ecology, physiology, habitat use, and diving behavior of Southern Ocean pinnipeds and the factors that affect and constrain their foraging and at-sea behaviors and how these ecological and physiological factors (1) vary in space and time, (2) influence and constrain the behavior of these species, (3) are impacted by environmental change, and (4) compare with other marine mammal species. To accomplish these objectives, the applicant proposes to capture and sample Ross seals (Ommatophoca rossii), leopard seals (Hydrurga leptonyx), crabeater seals (Lobodon carcinophaga), southern elephant seals (Mirounga leonina), Weddell seals (Leptonychotes weddellii), and Antarctic fur seals (Arctocephalus gazella) throughout their range for five years. Researchers may capture, release, and recapture up to 40 adult animals per species per year at sites throughout their range to assess mass, sex, morphometrics, blood, total blood volume, hair, vibrissae, milk, muscle/blubber/skin biopsies, swabs, urine, metabolic measurements, stomach lavage/enema, and ultrasound blubber measurements. Researchers may also capture 50 pups of each species for marking, morphometrics, and sample collection, including blood, blubber, nail, hair, mucous membrane swabs, and vibrissae. An additional 1,000 each of crabeater seals, leopard seals, and Ross seals, southern elephant seals, Weddell seals, and Antarctic fur seals may be taken annually by unintentional disturbance during captures, opportunistic sample collection, aerial surveys, and resights. Unintentional mortality or serious injury of up to four animals per species annually, not to exceed ten animals per species over five years, is requested. Blood and tissue samples from sampled animals or salvaged from carcasses would be imported from the Southern Ocean and Antarctica to the United States and exported world-wide for analyses.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 2, 2021.
Amy Sloan,
Acting Chief, Permits and Conservation Division, Office of Protected Resources, National Marine Fisheries Service.

[FR Doc. 2021-16743 Filed 8-4-21; 8:45 am]

BILLING CODE 3510-22-P